DEPARTMENT OF THE INTERIOR

Fish and Wildlife Service

AGENCY: Fish and Wildlife Service, Department of the Interior.

ACTION: Notice of availability.

SUMMARY: Pursuant to the National Wildlife Refuge System Improvement Act of 1997, the U.S. Fish and Wildlife Service has published a Revised Draft Comprehensive Conservation Plan and Environmental Assessment for the Edwin B. Forsythe and Cape May National Wildlife Refuges in New Jersey. This plan describes how the Service intends to manage the Forsythe and Cape May Refuges for the next 15 years.

DATES: A formal public hearing will be held at 7 PM on July 19, 2000. The hearing will provide an opportunity for all interested parties to present oral or written testimony on the revised draft document before a hearing officer and court reporter. Those wishing to do so will be able to sign up to speak when they enter the hearing room. This formal public hearing will be held at: Absegami High School, 201 South Wrangleboro Road, Galloway Township, Atlantic County, New Jersey.

All other comments should be sent by either traditional or electronic mail, no later than August 4, 2000, to: The Jersey Coast Refuges Planning Team, U.S. Fish and Wildlife Service, 300 Westgate Center Drive, Hadley, MA 01035-9589, or FW5RW_CCP@fws.gov.

ADDRESSES: Additional information or copies of an executive summary of the plan or the complete document may be obtained by contacting Steve Atzert, Edwin B. Forsythe National Wildlife Refuge, P.O. Box 72, Great Creek Road, Oceanville, New Jersey 08231-0072, telephone 609/652-1665.

SUPPLEMENTARY INFORMATION: The Service's Proposed Action and two other alternatives are described, along with the process used to develop them and the environmental consequences of implementing each one. The three alternatives are:

Alternative A. This is the No Action Alternative required by the Council of Environmental Quality's regulations on the implementation of the National Environmental Policy Act (NEPA). Selection of this Atlernative would mean that there would be no change from our current management programs and emphasis at both Refuges. Seasonal travel and parking of motor vehicles would continue to be allowed in the Holgate Unit of the Brigantine Wilderness Area, on lands above mean high tide, in violation of the Wilderness Act of 1964.

Alternative B. Alternative B is the Service's Proposed Action. This Alternative would initiate new wildlife population and habitat management programs; provide new wildlife-dependent recreation opportunities; increase our land protection efforts; and provide new office and visitor facilities at both Refuges. All lands above mean high tide in the Holgate Unit of the Brigantine Wilderness Area would be closed to motor vehicle use by the public year-round in compliance with the provisions of the Wilderness Act. We would initiate efforts to establish a seasonal boat concession to ferry anglers and other Refuge visitors to the southern tip of the Holgate Peninsula.

Alternative C. This Alternative would initiate new wildlife population and habitat management programs; provide new wildlife-dependent recreation opportunities Refuge-wide; increase our land protection efforts; and provide new or remodeled office and visitor facilities at both Refuges. All lands above mean high tide in the Holgate Unit of the Brigantine Wilderness Area would be closed to motor vehicle use by the public year-round in compliance with the provisions of the Wilderness Act. We would also seek to further restrict motor vehicle access at the Holgate Unit by obtaining a license from the New Jersey Tidelands Council to close State-owned riparian lands below the mean high tide line. Efforts would be initiated to establish a seasonal boat concession to ferry anglers and other Refuge visitors to the southern tip of the Holgate Peninsula.

Dated: June 27, 2000.
Mamie A. Parker,
Acting Regional Director, Fish and Wildlife Service, Hadley, Massachusetts.

[FR Doc. 00-17013 Filed 7-5-00; 8:45 am]

BILLING CODE 4310-55-M